DEPARTMENT OF TRANSPORTATION

Federal Aviation Administration

Notice of Opportunity for Public Comment on Disposal of 57 Acres of Airport Land at Manchester-Boston Regional Airport in Manchester, NH

AGENCY: Federal Aviation Administration (FAA), DOT.

ACTION: Request for public comments.

Under the provisions of Title 49, U.S.C. Section 47153(d), notice is being given that the FAA is considering a request from the Manchester-Boston Regional Airport in Manchester, NH, to dispose of 57 acres of airport land that is not required for aviation purposes at Manchester-Boston Regional Airport.

The subject parcel has been identified as property no longer needed for aviation use by the Manchester-Boston Regional Airport. The property is comprised of two (2) adjacent parcels of land, one located off of Pettengill Road in the Town of Londonderry, Rockingham County, New Hampshire and shown on the Town of Londonderry Tax Map as Map14/Lot 49-1, and the other located on Brown Avenue in the City of Manchester, Hillsborough County, New Hampshire shown on the City of Manchester Tax Map as Map 712, Lot 1B. The property was originally purchased as wetland mitigation land for the extension of Runway 35 in 2001. The property is located on the southwesterly side of the airport; it is a significant distance from the airfield environs.

Shortly after the land was acquired, it was determined by both the state and federal agencies having jurisdiction that the wetland mitigation requirements imposed upon the Airport with respect to the Trolley Crossing property were no longer required, and that the Property should be preserved as a wildlife corridor. Given the use of the property at this time, the airport determined that it was appropriate to identify New Hampshire Fish and Game, an environmentally oriented state agency, to continue to maintain the property in its natural state as a wildlife corridor in perpetuity.

The land will be transferred as a public benefit to the New Hampshire Fish and Game. A perpetual restrictive covenant is to be placed on the land that includes avigation easements and reversion clauses to ensure that aviation is not impacted by the property in the future. The restrictive covenant will be incorporated at the time of the land transfer.

DATES: Comments must be received on or before October 20, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the

FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts, on September 6, 2017.
Richard Doucette,
Acting Manager, ANE-600.

[FR Doc. 2017-19954 Filed 9-19-17; 8:45 am]

BILLING CODE P